DEPARTMENT OF LABOR

Employment and Training Administration

[Docket No. TA-W-35,319]

Simpson Pasadena Paper Company, Pasadena, Texas; Notice of Revised Determination on Remand

The United States Court of International Trade (USCIT) in the matter of Former Employees of Simpson Pasadena Paper Company v. Alexis Herman, United States Secretary of Labor, USCIT, No. 99-04-00249, remanded for additional customer survey, the Department's negative determination regarding eligibility to apply for adjustment assistance under the Trade Act of 1974.

On remand, the Department conducted a survey of additional declining customers of Simpson Pasadena Paper Company, Pasadena, Texas. The additional major declining customers surveyed report an increasing reliance on imports of paper while decreasing purchases from the subject firm during the time period relevant to the investigation.

Information that was obtained in the initial investigation show that workers at the Pasadena, Texas, plant of Simpson Pasadena Paper Company were used interchangeably and were not separately identifiable by product. Accordingly, the worker separations resulting from increase imports of paper indirectly affected all lines of production (pulp, coated and uncoated paper).

Conclusion

After careful review of the facts obtained on remand, I conclude that there was an increase in imports of articles that are like or directly competitive with those produced by the subject firm which contributed to declines in sales or production and employment at Simpson Pasadena Paper Company, Pasadena, Texas. In accordance with the provisions of the Trade Act, I make the following certification:

All workers of Simpson Pasadena Paper Company, Pasadena, Texas, who became totally or partially separated from employment on or after November 13, 1997, through two years from the date of this issuance, are eligible to apply for adjustment assistance under Section 223 of the Trade Act of 1974.

Signed at Washington, DC, this 9th Day of June 2000.
Grant D. Beale,
Program Manager, Division of Trade Adjustment Assistance.

[FR Doc. 00-15139 Filed 6-14-00; 8:45 am]

BILLING CODE 4510-30-M